SECURITIES AND EXCHANGE COMMISSION

[File No. 500-1]

In The Matter Of Global Earth Energy, Inc.; Order of Suspension of Trading

March 7, 2014.

It appears to the Securities and Exchange Commission that there is a lack of current and accurate information concerning the securities of Global Earth Energy, Inc. (“Global Earth”) because, among other things, of questions regarding the accuracy and completeness of Global Earth's representations to investors and prospective investors in Global Earth's public filings with the Commission and Global Earth's publicly-available press releases and other public statements. In particular, there are questions regarding the accuracy and completeness of Global Earth's public assertions relating to its business transactions with Hawk Manufacturing Corp. Based on Global Earth's most recent Form 10-K annual report filed for the company's fiscal year ended August 31, 2013, Global Earth is a Nevada corporation based in Wilmington, North Carolina. As of March 5, 2014, the company's common stock was quoted on OTC Link operated by OTC Markets Group, Inc. under the symbol “GLER.”

The Commission is of the opinion that the public interest and the protection of investors require a suspension of trading in the securities of Global Earth.

Therefore, it is ordered, pursuant to Section 12(k) of the Securities Exchange Act of 1934, that trading in the securities of Global Earth is suspended for the period from 9:30 a.m. EST on March 7, 2014, through 11:59 p.m. EDT on March 20, 2014.

By the Commission.
Jill M. Peterson,
Assistant Secretary.

[FR Doc. 2014-05342 Filed 3-7-14; 11:15 am]

BILLING CODE 8011-01-P